LEGAL SERVICES CORPORATION

Notice of Intent To Award—Grant Awards for the Provision of Civil Legal Services to Eligible Low-Income Clients Beginning January 1, 2018

AGENCY: Legal Services Corporation.

ACTION: Announcement of intention to make FY 2018 Grant Awards.

SUMMARY: The Legal Services Corporation (LSC) hereby announces its intention to award grants to provide economical and effective delivery of high quality civil legal services to eligible low-income clients, beginning January 1, 2018.

DATES: All comments and recommendations must be received on or before the close of business on November 27, 2017.

ADDRESSES: Legal Services Corporation—Grant Awards, Legal Services Corporation; 3333 K Street NW., Third Floor, Washington, DC 20007.

FOR FURTHER INFORMATION CONTACT: Reginald Haley, Office of Program Performance, at (202) 295-1545, or haleyr@lsc.gov.

SUPPLEMENTARY INFORMATION: Pursuant to LSC's announcement of funding availability on March 22, 2017, 82 FR 14753, and Grant Renewal applications due beginning June 5, 2017, LSC intends to award funds to provide civil legal services in the indicated service areas. Applicants for each service area are listed below. The amounts below are estimates based on the 2017 grant awards to each service area. The estimates incorporate the adjustments for the agricultural worker population as described at http://www.lsc.gov/ag-worker-data. The funding estimates may change based on the final FY 2018 appropriation.

LSC will post all updates and/or changes to this notice at http://www.grants.lsc.gov/grants-grantee-resources. Interested parties are asked to visit http://www.grants.lsc.gov/grants-grantee-resources regularly for updates on the LSC grants process.

Name of applicant organization | State | Service area | Estimated annualized 2018 funding
Alaska Legal Services Corporation | AK | AK-1 | $741,073
Alaska Legal Services Corporation | AK | NAK-1 | 556,121
Legal Services Alabama | AL | AL-4 | 6,072,761
Legal Aid of Arkansas | AR | AR-6 | 1,458,221
Center for Arkansas Legal Services | AR | AR-7 | 2,121,222
American Samoa Legal Aid | AS | AS-1 | 216,951
DNA-Peoples Legal Services | AZ | AZ-2 | 423,371
Community Legal Services | AZ | AZ-3 | 5,403,988
Southern Arizona Legal Aid | AZ | AZ-5 | 2,145,113
Community Legal Services | AZ | MAZ | 205,629
DNA-Peoples Legal Services | AZ | NAZ-5 | 2,683,310
Southern Arizona Legal Aid | AZ | NAZ-6 | 655,456
California Indian Legal Services | CA | CA-1 | 20,695
Inland Counties Legal Services | CA | CA-12 | 5,227,831
Legal Aid Society of San Diego | CA | CA-14 | 2,997,072
Legal Aid Society of Orange County | CA | CA-19 | 3,861,757
Greater Bakersfield Legal Assistance | CA | CA-2 | 1,135,641
Central California Legal Services | CA | CA-26 | 3,226,959
Legal Services of Northern California | CA | CA-27 | 3,878,184
Bay Area Legal Aid | CA | CA-28 | 4,156,552
Legal Aid Foundation of Los Angeles | CA | CA-29 | 6,247,806
Neighborhood Legal Services of Los Angeles County | CA | CA-30 | 4,391,958
California Rural Legal Assistance | CA | CA-31 | 5,019,889
California Rural Legal Assistance | CA | MCA | 2,525,354
California Indian Legal Services | CA | NCA-1 | 908,493
Colorado Legal Services | CO | CO-6 | 4,093,066
Colorado Legal Services | CO | MCO | 209,157
Colorado Legal Services | CO | NCO-1 | 98,754
Statewide Legal Services of Connecticut | CT | CT-1 | 2,499,625
Pine Tree Legal Assistance | CT | NCT-1 | 16,099
Neighborhood Legal Services Program of DC | DC | DC-1 | 754,782
Legal Services Corporation of Delaware | DE | DE-1 | 761,226
Legal Aid Bureau | DE | MDE | 12,961
Legal Services of North Florida | FL | FL-13 | 1,463,367
Three Rivers Legal Services | FL | FL-14 | 2,163,335
Community Legal Services of Mid-Florida | FL | FL-15 | 4,660,189
Bay Area Legal Services | FL | FL-16 | 3,430,322
Florida Rural Legal Services | FL | FL-17 | 3,918,976
Coast to Coast Legal Aid of South Florida | FL | FL-18 | 2,104,893
Legal Services of Greater Miami | FL | FL-5 | 3,623,941
Florida Rural Legal Services | FL | MFL | 539,561
Atlanta Legal Aid Society | GA | GA-1 | 3,802,513
Georgia Legal Services Program | GA | GA-2 | 8,192,300
Georgia Legal Services Program | GA | MGA | 268,109
Guam Legal Services Corporation | GU | GU-1 | 244,499
Legal Aid Society of Hawaii | HI | HI-1 | 1,284,668
Legal Aid Society of Hawaii | HI | NHI-1 | 235,552
Iowa Legal Aid | IA | IA-3 | 2,184,470
Iowa Legal Aid | IA | MIA | 324,185
Idaho Legal Aid Services | ID | ID-1 | 1,374,816
Idaho Legal Aid Services | ID | MID | 248,309
Idaho Legal Aid Services | ID | NID-1 | 66,807
Land of Lincoln Legal Assistance Foundation | IL | IL-3 | 2,551,787
Legal Assistance Foundation | IL | IL-6 | 5,874,008
Prairie State Legal Services | IL | IL-7 | 3,632,099
Legal Assistance Foundation | IL | MIL | 249,804
Indiana Legal Services | IN | IN-5 | 6,461,021
Indiana Legal Services | IN | MIN | 183,575
Kansas Legal Services | KS | KS-1 | 2,610,245
Legal Aid of the Bluegrass | KY | KY-10 | 1,439,798
Legal Aid Society | KY | KY-2 | 1,254,797
Appalachian Research and Defense Fund of Kentucky | KY | KY-5 | 1,593,861
Kentucky Legal Aid | KY | KY-9 | 1,104,495
Acadiana Legal Service Corporation | LA | LA-10 | 1,459,894
Acadiana Legal Service Corporation | LA | LA-11 | 1,535,486
Southeast Louisiana Legal Services Corporation | LA | LA-13 | 2,970,261
Community Legal Aid | MA | MA-10 | 1,463,593
Volunteer Lawyers Project of the Boston Bar Assoc. | MA | MA-11 | 2,005,092
South Coastal Counties Legal Services | MA | MA-12 | 838,353
Northeast Legal Aid | MA | MA-4 | 800,614
Legal Aid Bureau | MD | MD-1 | 3,973,616
Legal Aid Bureau | MD | MMD | 49,208
Pine Tree Legal Assistance | ME | ME-1 | 1,168,230
Pine Tree Legal Assistance | ME | MMX-1 | 253,514
Pine Tree Legal Assistance | ME | NME-1 | 66,279
Michigan Advocacy Program | MI | MI-12 | 1,532,726
Lakeshore Legal Aid | MI | MI-13 | 4,265,840
Legal Services of Eastern Michigan | MI | MI-14 | 1,579,715
Legal Aid of Western Michigan | MI | MI-15 | 2,205,241
Legal Services of Northern Michigan | MI | MI-9 | 799,487
Michigan Advocacy Program | MI | MMI | 317,148
Michigan Indian Legal Services | MI | NMI-1 | 169,276
Southern Minnesota Regional Legal Services | MN | MMN | 280,032
Legal Aid Service of Northeastern Minnesota | MN | MN-1 | 439,608
Legal Services of Northwest Minnesota Corporation | MN | MN-4 | 319,678
Southern Minnesota Regional Legal Services | MN | MN-5 | 1,525,475
Central Minnesota Legal Services | MN | MN-6 | 1,604,909
Anishinabe Legal Services | MN | NMN-1 | 245,745
Legal Aid of Western Missouri | MO | MMO | 193,905
Legal Aid of Western Missouri | MO | MO-3 | 1,913,195
Legal Services of Eastern Missouri | MO | MO-4 | 1,894,630
Mid-Missouri Legal Services Corporation | MO | MO-5 | 443,463
Legal Services of Southern Missouri | MO | MO-7 | 1,752,017
Micronesian Legal Services | MP | MP-1 | 1,226,169
Mississippi Center for Legal Services | MS | MS-10 | 2,525,075
North Mississippi Rural Legal Services | MS | MS-9 | 1,591,595
Mississippi Center for Legal Services | MS | NMS-1 | 85,478
Montana Legal Services Association | MT | MMT | 105,592
Montana Legal Services Association | MT | MT-1 | 944,446
Montana Legal Services Association | MT | NMT-1 | 163,734
Legal Aid of North Carolina | NC | MNC | 377,999
Legal Aid of North Carolina | NC | NC-5 | 11,003,144
Legal Aid of North Carolina | NC | NNC-1 | 224,422
Southern Minnesota Regional Legal Services | ND | MND | 118,792
Legal Services of North Dakota | ND | ND-3 | 442,291
Legal Services of North Dakota | ND | NND-3 | 276,997
Legal Aid of Nebraska | NE | MNE | 222,006
Legal Aid of Nebraska | NE | NE-4 | 1,328,345
Legal Aid of Nebraska | NE | NNE-1 | 33,990
Legal Advice & Referral Center | NH | NH-1 | 780,387
South Jersey Legal Services | NJ | MNJ | 69,612
Legal Services of Northwest Jersey | NJ | NJ-15 | 404,393
Central Jersey Legal Services | NJ | NJ-17 | 1,140,290
Northeast New Jersey Legal Services Corporation | NJ | NJ-18 | 1,896,940
South Jersey Legal Services | NJ | NJ-20 | 2,241,706
Essex-Newark Legal Services Project | NJ | NJ-8 | 882,685
New Mexico Legal Aid | NM | MNM | 95,692
DNA-Peoples Legal Services | NM | NM-1 | 177,469
New Mexico Legal Aid | NM | NM-5 | 2,701,602
DNA-Peoples Legal Services | NM | NNM-2 | 23,363
New Mexico Legal Aid | NM | NNM-4 | 477,790
Nevada Legal Services | NV | NNV-1 | 136,737
Nevada Legal Services | NV | NV-1 | 2,910,481
Legal Aid Society of Mid-New York | NY | MNY | 243,284
Legal Services of the Hudson Valley | NY | NY-20 | 1,749,323
Legal Aid Society of Northeastern New York | NY | NY-21 | 1,274,588
Legal Aid Society of Mid-New York | NY | NY-22 | 1,641,366
Legal Assistance of Western New York | NY | NY-23 | 1,666,745
Neighborhood Legal Services | NY | NY-24 | 1,223,693
Nassau/Suffolk Law Services Committee | NY | NY-7 | 1,319,382
Legal Services NYC | NY | NY-9 | 11,772,176
Legal Aid of Western Ohio | OH | MOH | 224,663
Legal Aid Society of Greater Cincinnati | OH | OH-18 | 1,620,098
Community Legal Aid Services | OH | OH-20 | 1,780,903
The Legal Aid Society of Cleveland | OH | OH-21 | 2,216,388
Legal Aid of Western Ohio | OH | OH-23 | 2,978,972
Ohio State Legal Services | OH | OH-24 | 3,358,791
Legal Aid Services of Oklahoma | OK | MOK | 138,399
Oklahoma Indian Legal Services | OK | NOK-1 | 841,963
Legal Aid Services of Oklahoma | OK | OK-3 | 4,116,455
Legal Aid Services of Oregon | OR | MOR | 443,163
Legal Aid Services of Oregon | OR | NOR-1 | 189,825
Legal Aid Services of Oregon | OR | OR-6 | 3,952,261
Philadelphia Legal Assistance Center | PA | MPA | 177,851
Philadelphia Legal Assistance Center | PA | PA-1 | 2,650,729
Southwestern Pennsylvania Legal Services | PA | PA-11 | 416,614
Legal Aid of Southeastern Pennsylvania | PA | PA-23 | 1,302,652
North Penn Legal Services | PA | PA-24 | 1,877,867
MidPenn Legal Services | PA | PA-25 | 2,429,480
Northwestern Legal Services | PA | PA-26 | 652,434
Laurel Legal Services | PA | PA-5 | 593,479
Neighborhood Legal Services Association | PA | PA-8 | 1,372,284
Puerto Rico Legal Services | PR | MPR | 53,561
Puerto Rico Legal Services | PR | PR-1 | 10,783,976
Community Law Office | PR | PR-2 | 241,905
Rhode Island Legal Services | RI | RI-1 | 986,794
South Carolina Legal Services | SC | MSC | 128,776
South Carolina Legal Services | SC | SC-8 | 5,626,709
Dakota Plains Legal Services | SD | NSD-1 | 960,128
East River Legal Services | SD | SD-2 | 396,301
Dakota Plains Legal Services | SD | SD-4 | 400,598
Legal Aid Society of Middle TN and the Cumberlands | TN | TN-10 | 3,107,225
Memphis Area Legal Services | TN | TN-4 | 1,553,797
West Tennessee Legal Services | TN | TN-7 | 698,100
Legal Aid of East Tennessee | TN | TN-9 | 2,497,599
Texas RioGrande Legal Aid | TX | MSX-2 | 1,608,920
Texas RioGrande Legal Aid | TX | NTX-1 | 32,183
Lone Star Legal Aid | TX | TX-13 | 10,395,557
Legal Aid of NorthWest Texas | TX | TX-14 | 9,004,475
Texas RioGrande Legal Aid | TX | TX-15 | 10,707,097
Utah Legal Services | UT | MUT | 76,980
Utah Legal Services | UT | NUT-1 | 84,598
Utah Legal Services | UT | UT-1 | 2,241,282
Central Virginia Legal Aid Society | VA | MVA | 155,344
Southwest Virginia Legal Aid Society | VA | VA-15 | 716,279
Legal Aid Society of Eastern Virginia | VA | VA-16 | 1,296,346
Virginia Legal Aid Society | VA | VA-17 | 897,396
Central Virginia Legal Aid Society | VA | VA-18 | 1,185,499
Blue Ridge Legal Services | VA | VA-19 | 790,876
Legal Services of Northern Virginia | VA | VA-20 | 1,460,820
Legal Services of the Virgin Islands | VI | VI-1 | 161,119
Legal Services Law Line of Vermont | VT | VT-1 | 467,902
Northwest Justice Project | WA | MWA | 585,992
Northwest Justice Project | WA | NWA-1 | 292,929
Northwest Justice Project | WA | WA-1 | 5,645,286
Legal Action of Wisconsin | WI | MWI | 331,424
Wisconsin Judicare | WI | NWI-1 | 159,512
Wisconsin Judicare | WI | WI-2 | 897,777
Legal Action of Wisconsin | WI | WI-5 | 3,806,115
Legal Aid of West Virginia | WV | WV-5 | 2,235,497
Legal Aid of Wyoming | WY | NWY-1 | 177,694
Legal Aid of Wyoming | WY | WY-4 | 434,973

These grants will be awarded under the authority conferred on LSC by section 1006(a)(1) of the Legal Services Corporation Act, 42 U.S.C. 2996e(a)(l). Awards will be made so that each service area is served, although no listed organization is guaranteed an award. Grants will become effective and grant funds will be distributed on or about January 1, 2018.

This notice is issued pursuant to 42 U.S.C. 2996f(f). Comments and recommendations concerning potential grantees are invited, and should be delivered to LSC within 30 days from the date of publication of this notice.

Dated: October 23, 2017.
Stefanie K. Davis,
Assistant General Counsel.

[FR Doc. 2017-23299 Filed 10-25-17; 8:45 am]

BILLING CODE 7050-01-P